DEPARTMENT OF ENERGY

Office of Energy Efficiency and Renewable Energy

Wind and Water Power Program

AGENCY: Office of Energy Efficiency and Renewable Energy, Department of Energy.

ACTION: Notice of public meeting.

SUMMARY: The Department of Energy (DOE) Wind and Water Power Program (WWPP) is planning a workshop to exchange information on hydropower's ability to integrate variable renewables into our nation's grid. Some renewable energy resources, such as wind and solar, can stress power systems as their electricity generation varies with fluctuations in their renewable “fuel” (i.e. wind speed and sunlight availability). Development of these resources is essential for meeting the President's goal of producing 80% of U.S. electricity from clean energy sources by 2035, but will require grid integration solutions. DOE is seeking individual technical advice with regard to the use of existing hydropower resources and advanced pumped storage technologies for integrating variable renewables.

DATES: DOE will hold a workshop on Tuesday, September 18, 2012, from 8 a.m. to 6 p.m. and on Wednesday, September 19, 2012, from 8 a.m. to 12 p.m. in Portland, OR. RSVP is required by Tuesday, September 4, 2012.

ADDRESSES: The workshop will be held at the Mark Spencer Hotel located at 409 SW. 11th Avenue, Portland, Oregon 97205.

FOR FURTHER INFORMATION CONTACT: Mr. Hoyt Battey, Office of Energy Efficiency and Renewable Energy, U.S. Department of Energy, 1000 Independence Avenue SW., Washington, DC 20585. Telephone: (202) 586-0143. Email: hoyt.battey@ee.doe.gov.

SUPPLEMENTARY INFORMATION: Hydropower provides a substantial portion of the existing power grid's flexibility and does so without emitting greenhouse emissions. However, the demands on the hydropower fleet's flexibility are growing due to increasing installation of renewables like wind and solar that produce variable power. Simultaneously, the capability to provide this flexibility is diminishing as the hydropower fleet loses efficiency as it ages, and competing water uses such as irrigation and domestic supply take priority over generation capabilities. New advanced pumped storage technologies could add the needed flexibility to integrate variable renewables, but U.S. development of pumped storage has been stalled for the last two decades.

Exchanging information concerning individual experience by industry experts through the DOE sponsored 2010 Pumped Storage Summit was informational and helped DOE to identify a set of key issues preventing the deployment of advanced pumped storage hydropower technologies. DOE was able to utilize the key information obtained at that meeting to carefully target research and development funding towards high-impact projects, such as benefits demonstration and pre-construction support.

DOE is planning a workshop for the exchange of information on hydropower's ability to integrate variable renewables into our nation's grid. Participants at the September workshop should limit information and comments to those based on personal experience, individual advice, information, or facts regarding this topic. It is not the object of this session to obtain any group position or consensus. Rather, this meeting is an opportunity for participants to gain an individual understanding of the cited knowledge, research, and technology needs. To most effectively use the limited time, please refrain from passing judgment on another participant's recommendations or advice, and instead, concentrate on your individual experiences.

Public Participation: This workshop is designed to bring together a multi-disciplinary set of stakeholders—from policymakers to equipment manufacturers, from hydro owner-operators to solar and wind industry experts, to individually identify and address all aspects of highest-leverage barriers to utilizing hydropower and pumped storage to integrate variable renewables. The event is open to the public based on space availability. Participants are required to pre-register and space is limited.

Pre-Registration: To pre-register, please visit www.yesevents.com/DOE_Hydropower_Integration or contact Stacey Young via email at Hydropower_Integration@sra.com or by telephone at (202) 554-8480 x2924. Participants interested in attending should provide their name, company name or organization (if applicable), telephone number, and email no later than the close of business on Tuesday September 4, 2012. All attendees are required to pre-register.

Agenda: The first day the DOE WWPP will open the workshop with its view of the current landscape of hydropower and pumped storage development and will then provide the opportunity for a variety of experts to describe their perspective on the state of the industry and associated technologies. For the remainder of the day, hydropower technological capabilities, operational constraints, and market barriers will be discussed sequentially. At the end of each workshop session, DOE will seek input from individual participants regarding what they believe are the most significant barriers and issues. The half-day session on the second day will be scheduled in its entirety to allow for comments from participants on how to tackle the high-impact issues identified by DOE from the previous workshop sessions.

Information on Services for Individuals with Disabilities: Individuals requiring special accommodations at the meeting, please contact Ms. Young no later than the close of business on Tuesday, September 4, 2012.

Minutes: A summary report of the meeting will be available for printing at the DOE Water Program Online Publication and Product Library at: water.energy.gov/publications.html.

Issued in Washington, DC, on August 15, 2012.
Jose Zayas,
Wind and Water Power Program Manager, Office of Energy Efficiency and Renewable Energy.

[FR Doc. 2012-20486 Filed 8-20-12; 8:45 am]

BILLING CODE 6450-01-P